DEPARTMENT OF COMMERCE

National Oceanic and Atmospheric Administration

[I.D. 051705B]

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene its Ecosystem Scientific and Statistical Committee (SSC).

DATES: The meeting will be held from 1 p.m. to 5 p.m. on Thursday, June 9, 2005, and from 8:30 a.m. to 2 p.m. on Friday, June 10, 2005.

ADDRESSES: The meeting will be held at the DoubleTree Guest Suites Tampa Bay, 3050 North Rocky Point Drive, Tampa, FL 33607.

Council address: Gulf of Mexico Fishery Management Council, 3018 North U.S. Highway 301, Suite 1000, Tampa, FL 33619.

FOR FURTHER INFORMATION CONTACT: Mr. Steven Atran, Population Dynamics Statistician, Gulf of Mexico Fishery Management Council; telephone: 813.228.2815.

SUPPLEMENTARY INFORMATION: The Gulf of Mexico Fishery Management Council (Council) will convene the first meeting of its newly formed Ecosystem Scientific and Statistical Committee (SSC) in Tampa, FL on June 9-10, 2005. The SSC will receive a presentation on EcoGIS, a pilot project that brings the National Marine Fisheries Service (NMFS), National Ocean Service (NOS), and the eight regional fishery management councils together to build on existing regional geographic information systems (GIS) capabilities; more fully develop GIS tools for managing and researching marine fishery ecosystems; and review the project's role in the development of an ecosystem based approach to fisheries management. The SSC will also review the findings of a workshop by ecosystem scientists that was held in February on ecosystem-based decision support tools for fisheries management. They will review a NMFS report titled Strategies for Incorporating Ecosystem Considerations in Fisheries Management and review an interim report of an ad hoc working group on guidelines for fishery ecosystem plans.

The SSC will then meet with the Council's ecosystem workshop facilitator and provide advice on issues to include in an upcoming series of public workshops on ecosystem based fisheries management. The SSC will review its role in identification of technical needs, establishing an inventory of existing information, and synthesizing public input on ecosystem goals and objectives.

A copy of the agenda and related materials can be obtained by calling the Council office at 813.228.2815.

Although other non-emergency issues not on the agendas may come before the Ecosystem SSC for discussion, in accordance with the Magnuson-Stevens Fishery Conservation and Management Act (M-SFCMA), those issues may not be the subject of formal action during this meeting. Actions of the Ecosystem SSC will be restricted to those issues specifically identified in the agendas and any issues arising after publication of this notice that require emergency action under Section 305(c) of the M-SFCMA, provided the public has been notified of the Council's intent to take action to address the emergency.

Special Accommodations

These meetings are physically accessible to people with disabilities. Requests for sign language interpretation or other auxiliary aids should be directed to Dawn Aring at the Council (see ADDRESSES) by May 31, 2005.

Dated: May 17, 2005.
Tracey Thompson,
Acting Director, Office of Sustainable Fisheries, National Marine Fisheries Service.

[FR Doc. E5-2528 Filed 5-19-05; 8:45 am]

BILLING CODE 3510-22-S